ENVIRONMENTAL PROTECTION AGENCY

[FRL-9451-9]

Science Advisory Board Staff Office; Notification of a Public Teleconference of the Chartered Science Advisory Board

AGENCY: Environmental Protection Agency (EPA).

ACTION: Notice.

SUMMARY: The EPA Science Advisory Board (SAB) Staff Office announces a public teleconference of the Chartered SAB on September 7, 2011 to conduct a quality review of a draft SAB report, Peer Review of EPA's Draft National-Scale Mercury Risk Assessment (08/04/11) Draft.

DATES: The public teleconference will be held on September 7, 2011 from 12 p.m. to 3 p.m. (Eastern Daylight Time).

ADDRESSES: The public teleconference will be conducted by telephone only.

FOR FURTHER INFORMATION CONTACT: Any member of the public wishing to obtain general information concerning the public teleconference may contact Dr. Angela Nugent, Designated Federal Officer (DFO). Dr. Nugent may be contacted at the EPA Science Advisory Board (1400R), U.S. Environmental Protection Agency, 1200 Pennsylvania Avenue, NW., Washington, DC 20460; or by telephone/voice mail at (202) 564-2218; fax at (202) 565-2098; or e-mail at nugent.angela@epa.gov. General information concerning the EPA Science Advisory Board can be found on the EPA Web site at http://www.epa.gov/sab.

SUPPLEMENTARY INFORMATION: The SAB was established pursuant to the Environmental Research, Development, and Demonstration Authorization Act (ERDAA), codified at 42 U.S.C. 4365, to provide independent scientific and technical advice to the EPA Administrator on the technical basis for Agency positions and regulations. The SAB is a Federal Advisory Committee chartered under the Federal Advisory Committee Act (FACA), 5 U.S.C., App. 2. Pursuant to FACA and EPA policy, notice is hereby given that the SAB will hold a public teleconference to conduct a quality review of an SAB draft report entitled Peer Review of EPA's Draft National-Scale Mercury Risk Assessment (08/04/1 Draft). The SAB will comply with the provisions of FACA and all appropriate SAB Staff Office procedural policies.

Background: EPA is considering regulating the emissions of hazardous air pollutants (HAPs) released from coal-burning electric generating units in the United States (U.S. EGUs) under Section 112(n)(1)(A) of the Clean Air Act (CAA). EPA developed a draft risk assessment for mercury, entitled Technical Support Document: National-scale Mercury Risk Assessment. The draft assessment considers the nature and magnitude of the potential risk to public health posed by current U.S. EGU mercury emissions and the nature and magnitude of the potential risk posed by U.S. EGU mercury in the future, once all anticipated CAA-related regulations potentially reducing mercury from U.S. EGUs are in place. EPA's Office of Air and Radiation requested peer review of this draft document. The SAB Mercury Review Panel has prepared a review report on EPA's draft technical document. The Charted SAB will conduct a quality view of the SAB Panel's draft review report.

Background information about the SAB advisory activity can be found on the SAB Web site at http://yosemite.epa.gov/sab/sabproduct.nsf/fedrgstr_activites/Oil%20Spill%20Research%20Strategy?OpenDocument.

Availability of Meeting Materials: The agenda and other materials in support of the teleconference will be placed on the SAB Web site at http://www.epa.gov/sab in advance of the teleconference.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide comment should contact the Designated Federal Officer directly. Oral Statements: In general, individuals or groups requesting an oral presentation at a teleconference will be limited to three minutes. Those interested in being placed on the public speakers list for the September 7, 2011 teleconference should contact Dr. Nugent at the contact information provided above no later than September 1, 2011. Written Statements: Written statements should be supplied to the DFO via e-mail at the contact information noted above by September 1, 2011 for the teleconference so that the information may be made available to the Panel members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Nugent (202) 564-2218 or nugent.angela@epa.gov. To request accommodation of a disability, please contact Dr. Nugent preferably at least ten days prior to the teleconference to give EPA as much time as possible to process your request.

Dated: August 9, 2011.
Vanessa T. Vu,
Director, EPA Science Advisory Board Staff Office.

[FR Doc. 2011-20825 Filed 8-15-11; 8:45 am]

BILLING CODE 6560-50-P